COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List services to be furnished by nonprofit agencies employing persons who are blind or have other severe disabilities, and to delete commodities previously furnished by such agencies.

COMMENTS MUST BE RECEIVED ON OR BEFORE: July 16, 2001.

ADDRESSES: Committee for Purchase From People Who Are Blind or Severely Disabled, Jefferson Plaza 2, Suite 10800, 1421 Jefferson Davis Highway, Arlington, Virginia 22202-3259.

FOR FURTHER INFORMATION CONTACT: Patrick T. Mooney (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed addition, all entities of the Federal Government identified in this notice for each service will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information. The following services are proposed for addition to Procurement List for production by the nonprofit agencies listed:

Services:

Base Supply Center

At the following locations:

Naval Support Activity, Philadelphia, Pennsylvania

Naval Support Activity, Mechanicsburg, PA

NPA: L.C. Industries For The Blind, Inc., Durham, North Carolina

Janitorial/Custodial, U.S. Army Reserve Center, Auburn, Maine

NPA: Northern New England Employment Services, Portland, Maine

Janitorial/Custodial, U.S. Army Reserve Center, Lewiston, Maine

NPA: Northern New England Employment Services, Portland, Maine

Janitorial/Custodial, U.S. Army Reserve Center, Saco, Maine

NPA: Northern New England Employment Services, Portland, Maine

Microfilming of the 2000 Census Images, U.S. Bureau of the Census, Washington, DC

NPA: AccessAbility, Inc., Minneapolis, Minnesota

Deletions:

I certify that the following action will not have a significant impact on a substantial number of small entities. The major factors considered for this certification were:

1. The action will not result in any additional reporting, recordkeeping or other compliance requirements for small entities.

2. The action will result in authorizing small entities to furnish the services to the Government.

3. There are no known regulatory alternatives which would accomplish the objectives of the Javits-Wagner-O'Day Act (41 U.S.C. 46—48c) in connection with the services proposed for deletion from the Procurement List.

The following commodities are proposed for deletion from the Procurement List:

Commodities

Strap, Webbing

5340-00-939-7062

5340-01-396-2266

5340-01-219-2887

5340-01-139-3197

5340-00-001-1266

5340-01-147-3366

Mophead, Wet

7920-00-926-5497

Louis R. Bartalot,
Director, Program Analysis and Evaluation.

[FR Doc. 01-15139 Filed 6-14-01; 8:45 am]

BILLING CODE 6353-01-P